SMALL BUSINESS ADMINISTRATION

Data Collection Available for Public Comments; Correction

AGENCY: Small Business Administration.

ACTION: Notice; correction.

SUMMARY: The Small Business Administration (SBA) published a document in the Federal Register of June 28, 2024, concerning a request for comments on a new data collection. The document contained a typo.

FOR FURTHER INFORMATION CONTACT: Peter Gorman, peter.gorman@sba.gov, (240) 962-9181. Curtis B. Rich, Agency Clearance Officer curtis.rich@sba.gov (202) 205-7030.

SUPPLEMENTARY INFORMATION:

Correction

In the Federal Register of June 28, 2024, in Document Number 2024-14194 on page 54122, correct the “Summary of Information Collection” section to read:

Summary of Information Collection

PRA Number

(1) Title: MySBA.

Description of Respondents: Current and potential customers of SBA programs.

Form Number: N/A.

Total Estimated Annual Respondents: 17,677,736 potential users.

Total Estimated Annual Responses per Respondent: 1.

Total Estimated Annual Hour Burden per Respondent: 2 minutes.

Total Estimated Annual Hour Burden: 589,258 hours.

Dated: July 2, 2024.
Curtis B. Rich,
Agency Clearance Officer.

[FR Doc. 2024-14914 Filed 7-5-24; 8:45 am]

BILLING CODE 8026-09-P